COMMODITY FUTURES TRADING COMMISSION

Futures Market Self-Regulation

Correction

In notice document 04-8235 beginning on page 19166 in the issue of Monday, April 12, 2004 make the following correction:

On page 19167, in the second column, remove the first two paragraphs and insert them into footnote 9 of the first column, so that footnote 9 appears as follows:

⁹ Originally, Regulation 1.3(ff) defined a DSRO to be an SRO:

of which [an FCM] is a member or, if the [FCM] is a member of more than one [SRO] and such [FCM] is the subject of an approved plan under § 1.52, then [an SRO] delegated the responsibility by such a plan for monitoring and auditing such [FCM] for compliance with the minimum financial and related reporting requirements of the [SROs] of which the [FCM] is a member, and for receiving the financial reports necessitated by such minimum financial and related reporting requirements from such [FCM].

43 FR at 39967. Regulation 1.3(ff) subsequently has been amended to include introducing brokers (“IBs”) and leverage transaction merchants.

[FR Doc. C4-8235 Filed 4-23-04; 8:45 am]

BILLING CODE 1505-01-D

PENSION BENEFIT GUARANTY CORPORATION

29 CFR Part 4044

Benefits Payable in Terminated Single-Employer Plans; Allocation of Assets in Single-Employer Plans; Interest Assumptions for Valuing and Paying Benefits

Correction

In rule document 04-5762 beginning on page 12072 in the issue of Monday, March 15, 2004, make the following correction:

PART 4044—ALLOCATION OF ASSETS IN SINGLE-EMPLOYER PLANS

Appendix B to Part 4044 [Corrected]

On page 12073, in Appendix B, in the table, under the second heading “for t=”, “20” should read, “>20”.

[FR Doc. C4-5762 Filed 4-23-04; 8:45 am]

BILLING CODE 1505-01-D

DEPARTMENT OF TRANSPORTATION

Federal Aviation Administration

14 CFR Part 71

[Docket No. FAA-2004-16985; Airspace Docket No. 04-ACE-3]

Establishment of Class E2 Airspace; and Modification of Class E5 Airspace; Muscatine, IA

Correction

In rule document 04-8815 beginning on page 20822 in the issue of Monday, April 19, 2004, make the following corrections:

§71.1 [Corrected]

1. On page 20823, in the first column, in §71.1, in the third line, the “long. 91°08’58” W.” should read, “long. 91°08’57” W.”.

2. On the same page, in the same column, in the same section, in the eighth line, after “VOR/DME”, add

“extending from the 6.6-mile radius of the airport to 7 miles northeast of the VOR/DME”.

[FR Doc. C4-8815 Filed 4-23-04; 8:45 am]

BILLING CODE 1505-01-D